DEPARTMENT OF ENERGY

Federal Energy Regulatory Commission

[Docket No. CP21-492-000]

Rover Pipeline LLC; Notice of Schedule for the Preparation of an Environmental Assessment for the Rover-Brightmark Receipt and Delivery Meter Station Project

On September 9, 2021, Rover Pipeline LLC (Rover) filed an application in Docket No. CP21-492-000 requesting a Certificate of Public Convenience and Necessity pursuant to Section 7(c) of the Natural Gas Act to construct and operate certain natural gas pipeline facilities in Michigan. The proposed project is known as the Rover-Brightmark Receipt and Delivery Meter Station Project (Project), and would allow Rover to construct a new interconnect on its existing mainline system to receive up to 1,600 dekatherms per day of natural gas from Brightmark SunRyz RNG LLC while also allowing Rover to deliver up to 100 dekatherms per day of natural gas to Brightmark SunRyz RNG LLC for its Brightmark Renewable Natural Gas Facility.

On September 20, 2021 the Federal Energy Regulatory Commission (Commission or FERC) issued its Notice of Application for the Project. Among other things, that notice alerted agencies issuing federal authorizations of the requirement to complete all necessary reviews and to reach a final decision on a request for a federal authorization within 90 days of the date of issuance of the Commission staff's environmental document for the Project.

This notice identifies Commission staff's intention to prepare an environmental assessment (EA) for the Project and the planned schedule for the completion of the environmental review.¹

¹ 40 CFR 1501.10 (2020).

Schedule for Environmental Review

Issuance of EA—February 22, 2022

90-day Federal Authorization Decision Deadline—May 24, 2022

If a schedule change becomes necessary, additional notice will be provided so that the relevant agencies are kept informed of the Project's progress.

Project Description

The Project would consist of Rover constructing and operating a new interconnect and meter station on its existing Market Area Mainline at about milepost 30.5 in Lenawee County, Michigan. The proposed meter station would include hot taps, valves, 65 feet of interconnecting pipe, two meter skids, a gas quality building, a measurement building, and satellite communications. Construction of the proposed facilities would impact about 2.0 acres.

Background

On October 26, 2021, the Commission issued a Notice of Scoping Period Requesting Comments on Environmental Issues for the Proposed Rover-Brightmark Receipt and Delivery Meter Station Project and Notice of Public Scoping Session (Notice of Scoping). The Notice of Scoping was sent to affected landowners; federal, state, and local government agencies; elected officials; environmental and public interest groups; Native American tribes; other interested parties; and local libraries and newspapers. In response to the Notice of Scoping, the Commission received comments from the U.S. Environmental Protection Agency. The U.S. Environmental Protection Agency commented on identifying the Project purpose and need; and assessing impacts on socioeconomics and environmental justice communities, greenhouse gas emissions, climate change, vegetation and wildlife, surface and groundwater quality, and karst terrain. All substantive comments will be addressed in the EA.

Additional Information

In order to receive notification of the issuance of the EA and to keep track of formal issuances and submittals in specific dockets, the Commission offers a free service called eSubscription. This service provides automatic notification of filings made to subscribed dockets, document summaries, and direct links to the documents. Go to https://www.ferc.gov/ferc-online/overview to register for eSubscription.

Additional information about the Project is available from the Commission's Office of External Affairs at (866) 208-FERC or on the FERC website (www.ferc.gov). Using the “eLibrary” link, select “General Search” from the eLibrary menu, enter the selected date range and “Docket Number” excluding the last three digits (i.e., CP21-492), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: December 22, 2021.
Kimberly D. Bose,
Secretary.

[FR Doc. 2021-28294 Filed 12-28-21; 8:45 am]

BILLING CODE 6717-01-P